DEPARTMENT OF ENERGY

Federal Energy Regulatory Commission

[Docket No. RP01-50-001]

Portland Natural Gas Transmission System; Notice of Compliance Filing

December 14, 2000.

Take notice that on December 11, 2000, Portland Natural Gas Transmission System (PNGTS) tendered for filing as part of its FERC Gas Tariff, First Revised Volume No. 1, the following revised tariff sheet to become effective as indicated:

To Be Effective on November 1, 2000

Original Sheet No. 337A

Original Sheet No. 337B

PNGTS states that the purpose of this filing is to comply with the requirements of the Commission's November 9, 2000 order addressing PNGTS's Order No. 587-L filing regarding the implementation of netting and trading of imbalances.

PNGTS states that copies of the filing were mailed to all affected customers and interested state commissions.

Any person desiring to protest said filing should file a protest with the Federal Energy Regulatory Commission, 888 First Street, NE., Washington, DC 20426, in accordance with Section 385.211 of the Commission's Rules and Regulations. All such protests mut be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32354 Filed 12-19-00; 8:45 am]

BILLING CODE 6717-01-M